DEPARTMENT OF ENERGY

Federal Energy Regulatory Commission

[Docket No. RM98-1-000]

Records Governing Off-the-Record Communications; Public Notice

This constitutes notice, in accordance with 18 CFR 385.2201(b), of the receipt of prohibited and exempt off-the-record communications.

Order No. 607 (64 FR 51222, September 22, 1999) requires Commission decisional employees, who make or receive a prohibited or exempt off-the-record communication relevant to the merits of a contested proceeding, to deliver to the Secretary of the Commission, a copy of the communication, if written, or a summary of the substance of any oral communication.

Prohibited communications are included in a public, non-decisional file associated with, but not a part of, the decisional record of the proceeding. Unless the Commission determines that the prohibited communication and any responses thereto should become a part of the decisional record, the prohibited off-the-record communication will not be considered by the Commission in reaching its decision. Parties to a proceeding may seek the opportunity to respond to any facts or contentions made in a prohibited off-the-record communication and may request that the Commission place the prohibited communication and responses thereto in the decisional record. The Commission will grant such a request only when it determines that fairness so requires. Any person identified below as having made a prohibited off-the-record communication shall serve the document on all parties listed on the official service list for the applicable proceeding in accordance with Rule 2010, 18 CFR 385.2010.

Exempt off-the-record communications are included in the decisional record of the proceeding, unless the communication was with a cooperating agency as described by 40 CFR 1501.6, made under 18 CFR 385.2201(e)(1)(v).

The following is a list of off-the-record communications recently received by the Secretary of the Commission. This filing may be viewed on the Commission's website at http://www.ferc.gov using the eLibrary link. Enter the docket number, excluding the last three digits, in the docket number field to access the document. For assistance, please contact FERC Online Support at FERCOnlineSupport@ferc.gov or toll free at (866) 208-3676, or for TTY, contact (202) 502-8659.

Docket Nos. | File date | Presenter or requester
Prohibited:
1. CP20-55-000 | 3-1-2023 | FERC Staff.¹
2. CP20-55-000 | 3-1-2023 | FERC Staff.²
3. CP20-55-000 | 3-1-2023 | FERC Staff.³
4. CP20-55-000 | 3-1-2023 | FERC Staff.⁴
5. CP20-55-000 | 3-3-2023 | FERC Staff.⁵
6. CP20-55-000 | 3-7-2023 | FERC Staff.⁶
7. CP20-55-000 | 3-7-2023 | FERC Staff.⁷
8. CP20-55-000 | 3-7-2023 | FERC Staff.⁸
9. CP20-55-000 | 3-7-2023 | FERC Staff.⁹
10. CP20-55-000 | 3-7-2023 | FERC Staff.¹⁰
11. CP20-55-000 | 3-7-2023 | FERC Staff.¹¹
12. CP20-55-000 | 3-7-2023 | FERC Staff.¹²
13. CP20-55-000 | 3-7-2023 | FERC Staff.¹³
14. CP20-55-000 | 3-7-2023 | FERC Staff.¹⁴
15. CP20-55-000 | 3-7-2023 | FERC Staff.¹⁵
16. CP20-55-000 | 3-7-2023 | FERC Staff.¹⁶
17. CP20-55-000 | 3-13-2023 | FERC Staff.¹⁷
18. CP20-55-000 | 3-13-2023 | FERC Staff.¹⁸
19. CP20-55-000 | 3-13-2023 | FERC Staff.¹⁹
20. CP20-55-000 | 3-13-2023 | FERC Staff.²⁰
21. CP20-55-000 | 3-13-2023 | FERC Staff.²¹
22. CP20-55-000 | 3-13-2023 | FERC Staff.²²
23. CP20-55-000 | 3-13-2023 | FERC Staff.²³
24. CP20-55-000 | 3-13-2023 | FERC Staff.²⁴
25. CP20-55-000 | 3-13-2023 | FERC Staff.²⁵
26. CP20-55-000 | 3-13-2023 | FERC Staff.²⁶
27. CP20-55-000 | 3-13-2023 | FERC Staff.²⁷
28. CP20-55-000 | 3-13-2023 | FERC Staff.²⁸
29. CP20-55-000 | 3-13-2023 | FERC Staff.²⁹
30. CP20-55-000 | 3-13-2023 | FERC Staff.³⁰
31. CP20-55-000 | 3-13-2023 | FERC Staff.³¹
32. CP20-55-000 | 3-13-2023 | FERC Staff.³²
33. CP20-55-000 | 3-13-2023 | FERC Staff.³³
34. CP16-454-000 | 3-15-2023 | FERC Staff.³⁴
Exempt:
1. CP22-21-000, CP22-22-000 | 3-6-2023 | Louisiana House of Representative Clay Higgins.
2. CP17-40-000 | 3-7-2023 | U.S. Senator Tammy Duckworth.
3. CP22-2-000 | 3-13-2023 | Washington State Governor Jay Inslee.
4. CP16-454-000 | 3-15-2023 | Cameron County Texas Judge Eddie Trevino, Jr.
¹ Email comments dated 2/27/23 from Jennifer Ho.
² Email comments dated 2/27/23 from Thomas Coleman.
³ Email comments dated 2/28/23 from Rachel Kosarin.
⁴ Email comments dated 2/28/23 from Keith Olcott.
⁵ Email comments dated 3/2/23 from Robby Roberts.
⁶ Email comments dated 3/3/23 from Dara Olmsted Silverstein.
⁷ Email comments dated 3/3/23 from Lynn Weller.
⁸ Email comments dated 3/3/23 from Nikki Alvarado.
⁹ Email comments dated 3/4/23 from Jennifer Aminzade.
¹⁰ Email comments dated 3/4/23 from Staci Edwards.
¹¹ Email comments dated 3/4/23 from Liz Peltekian.
¹² Email comments dated 3/5/23 from Dora Nomamiukor.
¹³ Email comments dated 3/5/23 from Jamie Usrey.
¹⁴ Email comments dated 3/6/23 from Elaine Salinger.
¹⁵ Email comments dated 3/6/23 from Lucinda Young.
¹⁶ Email comments dated 3/7/23 from Mary Ruth Gross.
¹⁷ Email comments dated 3/8/23 from Ari Thomas.
¹⁸ Email comments dated 3/10/23 from William Niemand.
¹⁹ Email comments dated 3/12/23 from Cassie Bowler Dupras.
²⁰ Email comments dated 3/7/23 from Daylan Forguson.
²¹ Email comments dated 3/13/23 from Diane Gleave.
²² Email comments dated 3/8/23 from Ginger Vollmar.
²³ Email comments dated 3/9/23 from Jacquie Hilterman.
²⁴ Email comments dated 3/7/23 from Julia Hudson.
²⁵ Email comments dated 3/13/23 from Karen Daiter.
²⁶ Email comments dated 3/8/23 from Kathleen Watson.
²⁷ Email comments dated 3/13/23 from Kent Kasper.
²⁸ Email comments dated 3/8/23 from Leslie Alden.
²⁹ Email comments dated 3/9/23 from Mary Ann Osborne.
³⁰ Email comments dated 3/9/23 from Robin Weller.
³¹ Email comments dated 3/13/23 from Susan Baum.
³² Email comments dated 3/13/23 from Suzie Ross.
³³ Email comments dated 3/7/23 from Todd Weber.
³⁴ Email comments dated 3/13/23 from Eduardo A Campirano.

Dated: March 15, 2023.
Debbie-Anne A. Reese,
Deputy Secretary.

[FR Doc. 2023-05780 Filed 3-20-23; 8:45 am]

BILLING CODE 6717-01-P